POSTAL SERVICE

Change in Classifications of General Applicability for Competitive Products

AGENCY: Postal Service™.

ACTION: Notice of a change in classifications of general applicability for competitive products.

SUMMARY: This notice sets forth changes in classifications of general applicability for competitive products, namely, Priority Mail Express and Priority Mail. The changes begin the “wind-down” period for the Loyalty Program.

DATES: Applicable: June 10, 2023.

FOR FURTHER INFORMATION CONTACT: Elizabeth Reed, 202-268-3179.

SUPPLEMENTARY INFORMATION: On May 9, 2023, pursuant to their authority under 39 U.S.C. 3632, the Governors of the Postal Service established classification changes for competitive products. The Governors' Decision and the record of proceedings in connection with such decision are reprinted below in accordance with section 3632(b)(2). Mail Classification Schedule language containing the new classification changes can be found at www.prc.gov.

Tram T. Pham,
Attorney, Ethics and Legal Compliance.

Decision of the Governors of the United States Postal Service on Changes in Classifications of General Applicability for Competitive Products (Governors' Decision No. 23-4)

May 9, 2023

Statement of Explanation and Justification

Pursuant to authority under section 3632 of title 39, as amended by the Postal Accountability and Enhancement Act of 2006 (“PAEA”), we establish classification changes of general applicability for certain competitive products, specifically Priority Mail Express and Priority Mail. The changes are described generally below, with a detailed description of the changes in the attachment. The attachment includes the draft Mail Classification Schedule sections with classification changes in legislative format.

First introduced in August 2020 at the height of the COVID-19 pandemic, the Loyalty Program proved to be a valuable incentive program for the Postal Service's small and micro business customers who utilize Click-N-Ship to ship packages at Retail rates. Despite the successes of the Loyalty Program, management has determined to offer a new opportunity for its small and micro business customers by permitting them to access commercial rates via Click-N-Ship. Accordingly, management has deemed it appropriate to begin to sunset the existing Loyalty Program over the next twelve months.

Beginning on June 10, 2023, Loyalty Program customers will no longer be able to earn additional credits on Priority Mail Express and Priority Mail shipments via Click-N-Ship. Credits must then be redeemed no later than June 9, 2024, which will conclude the one-year wind down period. Customers will be able to redeem their credits on Priority Mail Express and Priority Mail shipments that are made at Commercial rates during this wind down period. After the conclusion of this wind down period in 2024, the Postal Service intends to remove the Loyalty Program from the Mail Classification Schedule in a subsequent Commission filing.

Order

The changes in classification set forth herein shall be effective on June 10, 2023. We direct the Secretary to have this decision published in the Federal Register in accordance with 39 U.S.C. 3632(b)(2), and direct management to file with the Postal Regulatory Commission appropriate notice of these changes.

By The Governors:

/s/

Roman Martinez IV,

Chairman, Board of Governors.

United States Postal Service Office of the Board of Governors

Certification of Governors' Vote on Governors' Decision No. 23-4

Consistent with 39 U.S.C. 3632(a), I hereby certify that, on May 9, 2023, the Governors voted on adopting Governors' Decision No. 23-4, and that a majority of the Governors then holding office voted in favor of that Decision.

/s/

Date: May 9, 2023

Michael J. Elston,

Secretary of the Board of Governors.

[FR Doc. 2023-10375 Filed 5-15-23; 8:45 am]

BILLING CODE 7710-12-P